DEPARTMENT OF COMMERCE

National Oceanic and Atmospheric Administration

RIN 0648-XG165

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would exempt one commercial fishing vessel from the Northeast multispecies minimum mesh size and minimum fish size regulations in support of gear research to target healthy haddock and redfish stocks.

Regulations under the Magnuson-Stevens Fishery Conservation and Management Act require publication of this notification to provide interested parties the opportunity to comment on applications for proposed Exempted Fishing Permits.

DATES: Comments must be received on or before May 8, 2018.

ADDRESSES: You may submit written comments by any of the following methods:

• Email: nmfs.gar.efp@noaa.gov. Include in the subject line “GMRI Off-bottom Trawl EFP.”

• Mail: Michael Pentony, Regional Administrator, NMFS, Greater Atlantic Regional Fisheries Office, 55 Great Republic Drive, Gloucester, MA 01930. Mark the outside of the envelope “GMRI Off-bottom Trawl EFP.”

FOR FURTHER INFORMATION CONTACT: Spencer Talmage, Fishery Management Specialist, 978-281-9232.

SUPPLEMENTARY INFORMATION: The Gulf of Maine Research Institute (GMRI) submitted a complete application for an Exempted Fishing Permit (EFP) on March 20, 2018, in support of a 2016 Saltonstall-Kennedy Program project titled “Complementary testing of off-bottom trawls to target Georges Bank haddock.” The EFP would exempt one fishing vessel from minimum mesh size requirements at 50 CFR 648.80(a)(3)(ii) and temporarily exempt the vessel from minimum fish size requirements in 50 CFR part 648, subparts B and D through O, for biological sampling purposes only. An EFP for this project was issued during the 2017 fishing year; however, no activity was conducted under the EFP.

The project would test the efficacy of an off-bottom trawl fitted with a small-mesh codend to access healthy haddock and redfish stocks while avoiding other groundfish stocks. Additional project objectives include the development of a fuel-efficient trawl that also reduces disruption to benthic habitat. One vessel, the F/V Teresa Marie IV, would conduct a three-phase research plan to test the off-bottom trawl with two different codends: A 4.5-inch (11.43-cm) diamond mesh when targeting redfish; and a 5.1-inch (12.954-cm) square mesh when targeting haddock. The proposed EFP trips for each phase of this project are summarized in Table 1. The proposed off-bottom trawl would require an exemption from the Northeast multispecies minimum mesh size requirements because the codend and extension mesh size would be less than the minimum regulated mesh.

The 4.5-inch (11.43-cm) diamond mesh codend was previously authorized for use in the redfish exempted fishery, through a regulatory exemption to sectors, based on the results of previous redfish selectivity research (REDNET). This exemption has been modified a number of times in order to balance the conservation requirements, and economic goals of the fishery. In fishing year 2017, a 5.5-inch (14.0-cm) mesh was authorized within the redfish exemption area. During the REDNET study, substantial catches of redfish with low levels of incidental catch or bycatch of regulated species were observed when using a 4.5-inch (11.43-cm) mesh codend. Under this EFP, testing of the net outfitted with the 4.5-inch (11.43-cm) mesh codend would only occur in the Redfish Exemption Area.

The square-mesh 5.1-inch (13.0-cm) codend was selected based on the Canadian haddock fishery, which uses a 5-inch (12.7-cm) square-mesh codend. The Canadian Department of Fisheries and Oceans has also conducted studies on the selectivity of various mesh sizes. This codend mesh size has been approved for use in a previous EFP issued to Atlantic Trawlers Fishing, Inc. Only a small number of trips were taken under that EFP, which limited the ability to produce statistically reliable results.

During Phase 1, the captain and crew of the F/V Teresa Marie IV would familiarize themselves with the operation of the off-bottom trawl. Testing would include how to deploy the trawl to a desired operating depth, maintain depth, adjust depth, and haul back. Tow duration could be as short as 30 minutes or as long as 3 to 4 hours, depending on the outcome of the gear testing. A GMRI research technician would be on board to conduct catch sampling and collect data on the performance of the net. Catch is likely to be minimal in this phase; many tows will be conducted in areas where limited catch is expected, as the purpose of this phase to optimize gear performance, not demonstrate catch composition. However, any legal-size groundfish catch would be retained for sale, consistent with the Northeast Multispecies Fishery Management Plan (FMP), and all catch would be attributed against the applicable sector Annual Catch Entitlement (ACE).

In Phase 2, the off-bottom trawl would be evaluated during a 5-day controlled study on-board the F/V Teresa Marie IV conducted in August or September 2017. The off-bottom trawl would be tested at two towing speeds (three and four kts) while actively fishing in order to represent normal working conditions. Underwater cameras would be used to film the off-bottom trawl in operation. Catch would be retained for sale and attributed against the applicable sector ACE. Phase 3 would test the off-bottom trawl using both codends under a wide range of commercial conditions to broadly characterize the fishing performance of the net. Phase 3 would include ten 8-day trips occurring from August through December 2017. For Phase 2 and 3, catch would be retained for sale and attributed against the applicable sector ACE.

Table 1—Proposed EFP Trips
Phase | Number of trips | DAS per trip | Season | Location (statistical areas) | Target species
1 | 1 | 5 | August/September | 512, 513, 515 (3 days) | Redfish.
|  |  |  | 521, 522 (2 days) | Haddock.
2 | 1 | 5 | August/September | 512, 513, 515 (3 days) | Redfish.
|  |  |  | 521, 522 (2 days) | Haddock.
3 | 10 | 8 | August-October | 521, 522 (5 days) | Haddock.
|  |  |  | 512, 513, 515 (3 days) | Redfish.
|  |  | October-December | 512, 513, 515 (5 days) | Redfish.
|  |  |  | 521, 522 (5 days) | Haddock.

Catch from the F/V Teresa Marie IV using a haddock separator trawl in fishing year 2016 was used to estimate anticipated catch using the off-bottom trawl for this project. The average catch of haddock per trip was 5,500 lb (2,495 kg) in the Gulf of Maine, 6,400 lb (2,903 kg) in the Eastern U.S./Canada management area of Georges Bank, and 22,300 lb (10,115 kg) in Georges Bank West. The average catch of redfish in the Gulf of Maine was 2,000 lb (907 kg) per trip. The average catch of cod per trip was 180 lb (82 kg) in the Gulf of Maine, 70 lb (32 kg) in the Eastern U.S./Canada management area of Georges Bank, and 530 lb (240 kg) in Georges Bank West. The off-bottom trawl is expected to catch at least as much haddock as a bottom trawl, with substantial reductions in cod catch, and the complete elimination of flatfish catch. If these ratios are not realized, GMRI indicated that the off-bottom trawl would be deemed unsuccessful, and the project may be abandoned.

All trips would carry a GMRI sampler, an assigned at-sea observer, or an independently contracted data collection technician. In Phases 1 and 2, a GMRI sampler would be onboard to document the operational performance of the off-bottom trawl, and sample catch. In Phase 3, a GMRI sampler would be onboard the F/V Teresa Marie IV during at least two fishing trips. An assigned at-sea observer or independent contracted data collection technician would collect data during remaining trips with the off-bottom trawl. The volume of the catch is anticipated to be large, so sub-sampling protocols have been developed. A sub-sample of the total catch would be taken from the checker pens to estimate total catch, including cod and other non-target species by weight. All fish in the sub-sample would be weighed, and length measurements would be taken for cod and other non-target catch. All bycatch would be returned to the sea as soon as practicable following data collection. Exemption from minimum sizes would support catch sampling activities and ensure the vessel is not in conflict with possession regulations while collecting catch data. All trips would otherwise be conducted in a manner consistent with normal commercial fishing conditions and catch consistent with the Northeast Multispecies FMP would be retained for sale. Trips not accompanied by GMRI researchers would be required to carry an At-Sea Monitor (ASM), Northeast Fishery Observer Program (NEFOP) observer, or privately contracted data collection technician. On trips assigned to carry an ASM or observer by NEFOP, normal sampling protocols would be carried out. The vessel is responsible for notifying its monitoring provider of upcoming research trips and ensuring a research technician is present on all EFP trips not selected for observer coverage through Pre-Trip Notification System.

GMRI needs this exemption to allow them to conduct testing of a net configuration that is prohibited by the current regulations. If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 18, 2018.
Jennifer M. Wallace,
Acting Director, Office of Sustainable Fisheries, National Marine Fisheries Service.

[FR Doc. 2018-08390 Filed 4-20-18; 8:45 am]

BILLING CODE 3510-22-P